DEPARTMENT OF THE INTERIOR

Bureau of Indian Affairs

[212A2100DD/AAKC001030/A0A501010.999900 253G]

Advisory Board of Exceptional Children

AGENCY: Bureau of Indian Affairs, Interior.

ACTION: Notice of meeting.

SUMMARY: The Bureau of Indian Education (BIE) is announcing that the Advisory Board for Exceptional Children (Advisory Board) will hold an online meeting. The purpose of the meeting is to meet the mandates of the Individuals with Disabilities Education Act of 2004 (IDEA) for Indian children with disabilities. Due to the COVID-19 pandemic and for the safety of all individuals, it will be necessary to conduct an online meeting.

DATES: The BIE Advisory Board meeting will be held Wednesday, April 28, 2021 from 8 a.m. to 4 p.m. Mountain Daylight Time (MDT) and Thursday, April 29, 2021 from 8 a.m. to 4 p.m. Mountain Daylight Time (MDT).

ADDRESSES: All Advisory Board activities and meetings will be conducted online. See the SUPPLEMENTARY INFORMATION section of this notice for information on how to join the meeting. Public comments can be emailed to the DFO at Jennifer.davis@bie.edu; or faxed to (602) 265-0293, Attention: Jennifer Davis, DFO; or mailed or hand delivered to the Bureau of Indian Education, Attention: Jennifer Davis, DFO, 2600 N Central Ave., 12th Floor, Suite 250, Phoenix, AZ 85004.

FOR FURTHER INFORMATION CONTACT: Jennifer Davis, Designated Federal Officer, Bureau of Indian Education, 2600 N Central Avenue, 12th Floor, Suite 250, Phoenix, AZ 85004, Jennifer.davis@bie.edu, or (202) 860-7845 or (602) 240-8597.

SUPPLEMENTARY INFORMATION: The Advisory Board was established under the Individuals with Disabilities Act of 2004 (20 U.S.C. 1400 et seq.) to advise the Secretary of the Interior, through the Assistant Secretary-Indian Affairs, on the needs of Indian children with disabilities. The meeting is open to the public.

The following items will be on the agenda, reports regarding special education from:

• BIE Central Office—explain how BIE funded schools will be reopening in SY21-22. Will schools return back face to face or will some schools continue to operate remotely?

• BIE/Division of Performance and Accountability (DPA)/Special Education Program. What is the return to learn plan for SY21.22? How will compensatory hours be determined? And when/how will schools be providing compensatory services?

• The BIE's Office of Sovereignty in Indian Education—How has the implementation of the Tribal Education Department (TED) grant project benefitted and transformed the overall system of education for students and families on reservations who received the TED grants with BIE funded schools within their reservations, and more specifically the provision of special education services?

• Three Tribal Education Department (TED) grantees—The Mississippi Band of Choctaw Indians TED, The Hopi Tribe TED and the Navajo Nation TED—will provide an overview of their TED grant project, how has the implementation of the TED grant project has benefitted and transformed the education for students and families on their reservation, and more specifically the provision of special education services.

• The Chief Academic Office—explain how the BIE's Standards, Assessments, and Accountability System (SAAS) Alternate Assessment is aligned with Alternative Academic Achievement Standards, and what is the BIE's plan to rollout the SAAS at the school level?

• Four Public Commenting Sessions will be provided during both meeting days.

○ On Wednesday, April 28, 2021 two sessions (15 minutes each) will be provided, 11:45 a.m. to 12:00 p.m. MDT and 1:00 p.m. to 1:15 p.m. MDT. Public comments can be provided via webinar or telephone conference call. Please use the same online access codes as listed below for the April 28th meeting.

○ On Thursday, April 29, 2021 two sessions (15 minutes each) will be provided, 10:45 a.m. to 11:00 a.m. MDT and 12:30 p.m. to 12:45 p.m. MDT. Public comments can be provided via webinar or telephone conference call. Please use the same online access codes as listed below for the April 29th meeting.

○ Public comments can be emailed to the DFO at Jennifer.davis@bie.edu; or faxed to (602) 265-0293, Attention: Jennifer Davis, DFO; or mailed or hand delivered to the Bureau of Indian Education, Attention: Jennifer Davis, DFO, 2600 N Central Ave. 12th Floor, Suite 250, Phoenix, Arizona 85004.

To Access the Wednesday, April 28, 2021 Meeting

You can join the meeting on April 28, 2021 through any of the following means:

• Join ZoomGov Meeting using: https://www.zoomgov.com/j/1615820038?pwd=ZUx4OUh0QTRBNlROeFVEUnowZFZIZz09

• One tap mobile: Meeting ID: 161 582 0038 Passcode: 582787, +16692545252,,1615820038#,,,,*582787# US (San Jose) or +16692161590,,1615820038#,,,,*582787# US (San Jose)

• Dial by your location: Meeting ID: 161 582 0038 Passcode: 582787, +1 669 254 5252 US (San Jose), +1 646 828 7666 US (New York), +1 669 216 1590 US (San Jose), +1 551 285 1373 (U.S.)

• Find your local number: https://www.zoomgov.com/u/algTdAoA

To Access the Thursday, April 29, 2021 Meeting

You can join the meeting on April 29, 2021 through any of the following means:

• Join ZoomGov Meeting using: https://www.zoomgov.com/j/1619098985?pwd=dnk5Mm1nZGxVcCtYOGJWKzhsRmp5dz09

• One tap mobile: Meeting ID: 161 909 8985 Passcode: 829448, +16692545252,,1619098985#,,,,*829448# US (San Jose) or +16468287666,,1619098985#,,,,*829448# US (New York)

• Dial by your location: Meeting ID: 161 909 8985 Passcode: 829448, +1 669 254 5252 US (San Jose), +1 646 828 7666 US (New York), +1 669 216 1590 US (San Jose), +1 551 285 1373 (U.S.)

• Find your local number: https://www.zoomgov.com/u/ab1dFrL5sA

Authority: 5 U.S.C. Appendix 5; 20 U.S.C. 1400 et seq.

Bryan Newland,
Principal Deputy Assistant Secretary—Indian Affairs.

[FR Doc. 2021-07320 Filed 4-8-21; 8:45 am]

BILLING CODE 4337-15-P